DEPARTMENT OF COMMERCE

National Oceanic and Atmospheric Administration

[RTID 0648-XD783]

North Pacific Fishery Management Council; Public Meeting

AGENCY: National Marine Fisheries Service (NMFS), National Oceanic and Atmospheric Administration (NOAA), Commerce.

ACTION: Notice of hybrid conference meetings.

SUMMARY: The North Pacific Fishery Management Council (Council) and its advisory committees will meet April 1, 2024 through April 9, 2024.

DATES: The Council's Scientific and Statistical Committee (SSC) will begin at 8 a.m. in the Aleutian room on Monday, April 1, 2024, and continue through Wednesday, April 3, 2024. The Council's Advisory Panel (AP) will begin at 8 a.m. in the Denali room on Tuesday, April 2, 2024, and continue through Saturday, April 6, 2024. The closed Executive/Finance Committee will meet Wednesday April 3, 2024, from 1 p.m. to 5 p.m. at the Council's offices. The Council will begin at 8 a.m. in the Aleutian room on Thursday, April 4, 2024, and continue through Tuesday, April 9, 2024. All times listed are Alaska Time.

ADDRESSES: The meetings will be a hybrid conference. The in-person component of the meeting will be held at the Hilton Hotel, 500 W 3rd Ave., Suite 400, Anchorage, AK 99501, or join the meeting online through the links at https://www.npfmc.org/upcoming-council-meetings.

Council address: North Pacific Fishery Management Council, 1007 W 3rd Ave., Anchorage, AK 99501-2252; telephone: (907) 271-2809. Instructions for attending the meeting via webconference are given under Connection Information, below.

FOR FURTHER INFORMATION CONTACT: Diana Evans, Council staff; email: diana.evans@noaa.gov; telephone: (907) 271-2809. For technical support, please contact our Council administrative staff, email: npfmc.admin@noaa.gov.

SUPPLEMENTARY INFORMATION:

Agenda

Monday, April 1, 2024, Through Wednesday, April 3, 2024

The SSC agenda will include the following issues:

(1) Scallops—Stock Assessment and Fishery Evaluation (SAFE) report, Acceptable biological catch (ABC)/Over Fishing Limit (OFL), Plan Team report.

(2) Salmon bycatch—review (a) Chinook/chum genetics reports for Bering Sea (BS), Gulf of Alaska (GOA); and (c) Chum Salmon Bycatch initial review analysis.

(3) Amendment 80 Program Review—review report.

(4) Research Priorities—set 5-year priorities.

(5) Sablefish study for IRA funding—discuss for potential analysis.

The agenda is subject to change, and the latest version will be posted at https://meetings.npfmc.org/Meeting/Details/3040 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Tuesday, April 2, 2024, Through Saturday, April 6, 2024

The Advisory Panel agenda will include the following issues:

(1) Scallops—SAFE report, ABC/OFL, Plan Team report.

(2) Salmon bycatch—review (a) Chinook/chum genetics reports BS and GOA, and (c) Chum Salmon Bycatch initial review analysis.

(3) Area 4 Vessel Caps—Initial Review.

(4) Amendment 80 Program Review—review report.

(5) Maximum retention amount adjustments—review discussion paper.

(6) Research Priorities set 5-year priorities.

(7) Staff Tasking.

Wednesday, April 3, 2024

The Executive/Finance Committee will meet in closed session to discuss Council finances and internal administrative matters.

Thursday, April 4, 2024, Through Tuesday, April 9, 2024

The Council agenda will include the following issues. The Council may take appropriate action on any of the issues identified.

(1) B Reports (Executive Director, NMFS Management, NOAA General Counsel (GC), Alaska Fishery Science Center (AFSC), Alaska Department of Fish and Game (ADF&G), United States Coast Guard (USCG), United States Fish and Wildlife Service (USFWS), National Institute for Occupational Safety & Health (NIOSH) report, Cooperative reports, Advisory Panel, SSC report).

(2) Scallops—SAFE report, ABC/OFL, Plan Team report.

(3) Salmon bycatch—review (a) Chinook/chum genetics reports BS and GOA; (b) pollock IPA reports, Sea Share, and (c) Chum Salmon Bycatch initial review analysis.

(4) Area 4 Vessel Caps—Initial Review.

(5) Amendment 80 Program Review—review report.

(6) Maximum retention amount adjustments—review discussion paper.

(7) Research Priorities set 5-year priorities.

(8) Staff Tasking.

Connection Information

You can attend the meeting online using a computer, tablet, or smart phone; or by phone only. Connection information will be posted online at: https://www.npfmc.org/upcoming-council-meetings. For technical support, please contact our administrative staff, email: npfmc.admin@noaa.gov.

If you are attending the meeting in-person, please refer to the COVID avoidance protocols on our website, https://www.npfmc.org/upcoming-council-meetings/.

Public Comment

Public comment letters will be accepted and should be submitted electronically through the links at https://www.npfmc.org/upcoming-council-meetings. The Council strongly encourages written public comment for this meeting, to avoid any potential for technical difficulties to compromise oral testimony. The written comment period is open from March 8, 2024, to March 29, 2024, and closes at 12 p.m., Alaska Time on Friday, March 29, 2024.

Authority: 16 U.S.C. 1801 et seq.

Dated: March 8, 2024.
Rey Israel Marquez,
Acting Deputy Director, Office of Sustainable Fisheries, National Marine Fisheries Service.

[FR Doc. 2024-05325 Filed 3-12-24; 8:45 am]

BILLING CODE 3510-22-P